NUCLEAR REGULATORY COMMISSION

[Docket No. 52-006]

Westinghouse Electric Company; Notice of Acceptance of Application for Final Design Approval and Standard Design Certification of the AP1000 Standard Plant Design

Notice is hereby given that the Nuclear Regulatory Commission (NRC, the Commission) has received an application from Westinghouse Electric Company dated March 28, 2002, filed pursuant to Section 103 of the Atomic Energy Act and Title 10 of the Code of Federal Regulations (10 CFR) part 52, for the final design approval and standard design certification of the AP1000 Standard Plant Design. Westinghouse supplemented its application on April 15, April 30, May 15, and May 31, 2002. The application is considered sufficiently complete to be accepted formally as a docketed application for design certification. The Docket No. established for this application is 52-006. A notice relating to the rulemaking pursuant to 10 CFR 52.51 for design certification, including provisions for participation of the public and other parties, will be published in the future.

The AP1000 design is based on the AP600 design, which was certified on December 16, 1999. The AP1000 design is an approximately 1100 megawatt electric pressurized water reactor plant design in which passive safety systems are used for the ultimate safety protection of the plant. All of the safety systems are designed to be passive, where natural forces, such as gravity, natural circulation, and stored energy (in the form of pressurized accumulators and batteries), are used as the motive forces of these systems. The AP1000 application includes the entire power generation complex, except those elements and features considered site-specific, and is not a modular design in which major components are shared.

A copy of the application is available for public inspection at the Commission's Public Document Room (PDR), located at One White Flint North, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS, should contact the NRC Public Document Room Reference staff by telephone at 1-800-397-4209, 301-415-4737 or by e-mail to pdr@nrc.gov.

Dated at Rockville, Maryland this 25th day of June 2002.
For the Nuclear Regulatory Commission.
James E. Lyons,
Director, New Reactor Licensing Project Office, Office of Nuclear Reactor Regulation.

[FR Doc. 02-16338 Filed 6-27-02; 8:45 am]

BILLING CODE 7590-01-P